DEPARTMENT OF LABOR

Employment and Training Administration

[TA-W-65,785]

Dell USA LP, Global Finance Division, Round Rock, TX; Notice of Termination of Investigation

In accordance with Section 221 of the Trade Act of 1974, as amended, an investigation was initiated on April 15, 2009 in response to a worker petition filed on behalf of workers of Dell USA LP, Global Finance Division, Round Rock, Texas.

The petitioners have requested that the petition be withdrawn. Consequently, the investigation has been terminated.

Signed in Washington, DC, this 22nd day of April 2009.
Richard Church,
Certifying Officer, Division of Trade Adjustment Assistance.

[FR Doc. E9-11874 Filed 5-20-09; 8:45 am]

BILLING CODE 4510-FN-P